DEPARTMENT OF THE INTERIOR

Bureau of Land Management

Notice of Availability of a Draft Environmental Impact Statement for the Black Rock Desert-High Rock Canyon Emigrant Trails National Conservation Area Resource Management Plan, Nevada

AGENCY: Bureau of Land Management, Interior.

ACTION: Notice of Availability of a Draft Environmental Impact Statement (DEIS) for the Black Rock Desert-High Rock Canyon Emigrant Trails National Conservation Area Resource Management Plan (RMP), Nevada.

SUMMARY: In accordance with Section 202 of the National Environmental Policy Act of 1969, a Draft Resource Management Plan/Environmental Impact Statement has been prepared for the Black Rock Desert-High Rock Canyon Emigrant Trails National Conservation Area.

The Black Rock Desert-High Rock Canyon Emigrant Trails National Conservation Area Act of 2000 (the Act) gave special designation to 1.2 million acres of public lands managed by the Bureau of Land Management (BLM) in northwestern Nevada, collectively known as “Black Rock-High Rock.” The Act designated 815,000 acres as a National Conservation Area (NCA) and 752,000 acres as 10 Wilderness Areas (378,000 of the Wilderness acres overlap the NCA). The NCA and associated Wilderness Areas were created specifically to protect one of the last nationally significant segments of the historic emigrant trails used by pioneers to travel from the eastern States to Oregon and California, and a landscape largely unchanged since the mid-1800s. Black Rock-High Rock contains an array of unique historic, cultural, educational, wildlife, riparian, and wilderness resources, threatened species, and recreational values. The Act also identified wilderness, grazing, and special recreation permit events as valuable existing land uses that are expected to continue.

Designating Black Rock-High Rock as an NCA and Wilderness Areas placed new emphasis and requirements on resource uses in the area. The DEIS/RMP has been developed to address these changes. This DEIS/RMP does not evaluate the designation of the NCA and Wilderness Areas, but rather develops several resource management alternatives that fully comply with the NCA Act and the Wilderness Act and other applicable laws, regulations and policies, and analyzes the environmental consequences associated with implementation of each alternative. Additionally, approximately 15,000 acres in the south playa, 16,000 acres in the Lahontan Cutthroat Trout (LCT) Area, and 3,000 acres included in wilderness access and boundary roads and road corridors located outside the NCA that are not included in the designation are evaluated in the DEIS/RMP due to their being contiguous lands with similar planning issues. These designated and adjacent areas, totaling approximately 1,221,000 acres of public lands, are referred to as the planning area.

In addition to other existing laws, regulations and policies, the NCA Act and the Wilderness Act govern land and resource use decisions in 97.4% of the planning area. As a result, the range of alternatives presented in this planning document and the impacts anticipated from their implementation are more constrained than is typical of BLM management plans.

Current management is guided by four Management Framework Plans (MFPs): The Sonoma-Gerlach, Paradise-Denio, Tuledad-Homecamp, and Cowhead-Massacre MFPs. The No Action Alternative in the DEIS/RMP would continue management under these MFPs consistent with the requirements of the NCA Act of 2000 as amended and the Wilderness Act of 1964.

DATES: Written comments on the Draft RMP/EIS will be accepted for 90 days following the date the Environmental Protection Agency publishes the Notice of Availability in the Federal Register. Future meetings or hearings and any other public involvement activities will be announced in 15 days in advance through public notices, media news releases, and/or mailings.

ADDRESSES: Comments may be submitted by any one of several methods. Comments can be mailed to the Bureau of Land Management, Winnemucca Field Office, Attention: NCA Plan, 5100 E. Winnemucca Blvd., Winnemucca, NV 89445-2921. Comments can be posted through the Internet at http://www.BlackRockHighRock.org/ by clicking on “Submit Your Input” and completing the online form. Comments will be accepted at public meetings in March 2003. Finally, comments can be hand-delivered to the Bureau of Land Management, Winnemucca Field Office, at the above address. Individual respondents may request confidentiality. If you wish to withhold your name or street address from public review or from disclosure under the Freedom of Information Act, you must state this prominently at the beginning of your written comment. Such requests will be honored to the extent allowed by law. All submissions from organizations or businesses, and from individuals identifying themselves as representatives or officials of organizations or businesses, will be made available for public review in their entirety. Copies of the Draft RMP/EIS are available for review online at the Web site http://www.BlackRockHighRock.org/, at the BLM NV Winnemucca Field Office at the above address, and at the following repositories: U of Nevada-Reno Getchell Library, Humboldt County Library, BLM NV Carson City Field Office, BLM NV State Office, Gerlach NV Library, Reno NV Public Library, Pershing County NV Public Library, Lyon County NV Library—Dayton NV, BLM CA Surprise Field Office, Modoc County CA Library—Cedarville CA, Modoc County Library—Alturas CA, BLM CA State Office, and BLM CA Eagle Lake Field Office. Persons who are not able to review the DEIS in either of these ways may request one of a limited number of printed copies or compact discs (CDs) by contacting the NCA Planning Staff at the Winnemucca Field Office. In addition, you can e-mail a request for a copy of the DEIS to wfoweb@nv.blm.gov, call in a request to (775) 623-1500, or fax a request to (775) 623-1503. Please be sure to direct the request to the NCA Planning Staff, clearly state that it is a request for a printed copy or CD of the Black Rock-High Rock DEIS, and include your name, mailing address and phone number.

FOR FURTHER INFORMATION CONTACT: David C. Cooper, NCA Manager, BLM Winnemucca Field Office, 5100 East Winnemucca Blvd., Winnemucca, NV 89445-2921, (775) 623-1500.

SUPPLEMENTARY INFORMATION: The DEIS/RMP have been developed through a collaborative planning process involving two BLM State Offices and two BLM Field Offices, other federal agencies, the State of Nevada Black Rock Planning Team, area Tribal Government representatives, representatives of the local communities of Cedarville, California and Empire-Gerlach, Nevada, Modoc County, California, Humboldt County, Nevada, Pershing County, Nevada, and many diverse interests represented on a Resource Advisory Council Subgroup formed specifically to participate with BLM in the planning process. In addition, a planning Web site was created at http://www.BlackRockHighRock.org/ to keep interested members of the public informed and involved during the planning process. A total of 49 meetings involving participation of other federal agencies, State and Tribal representatives, and interested publics have been conducted in northern California and northern Nevada.

Alternative Descriptions and Impacts Expected from Each:

No Action—Continuation of Current Management: This alternative entails continuation of those management activities that already occur in the planning area that are consistent with the requirements of the NCA Act and the Wilderness Act. Changes to these management practices would be made for the sole purpose of compliance with the NCA Act and other applicable laws and regulations. Natural resources and visitation would be managed in accordance with existing law, regulation and policy.

Impacts—The only impacts expected are those that would occur as a result of continuing current management practices in or adjacent to the planning area. The No Action Alternative is the baseline that the other alternatives are compared to, to determine impacts.

Alternative A—Emphasis on Natural Processes: This alternative emphasizes providing visitors with a self-directed opportunity to experience what the emigrants and other early visitors to the area experienced in the mid 1800s. Visitors would experience the area as an unspoiled, cross-section of the northwestern Great Basin where natural processes have been allowed to continue with specific restrictions on visitor activities to protect both visitors and resources. The focus of resource management would minimize intervention into natural processes to allow for their continued progression, provided degradation was not occurring. Specific management would be developed if degradation were to occur.

Impacts—The impacts from this alternative are similar to the no action alternative with few visitor services provided, but more opportunities for self-discovery. Minor impacts to natural resources are anticipated from increased, primarily self-directed visitation. This alternative could reduce the anticipated rate of increase in visitation due to difficulty in accessing the area.

Alternative B—Emphasis on Response to Change (Preferred Alternative): This alternative also emphasizes providing visitors with a self-directed opportunity to experience what the emigrants and other early visitors to the area experienced in the mid 1800s. It is distinguished from Alternative A in that it employs a management approach that would more readily identify and accommodate changing conditions over time by allowing the application of management decisions responsive to these changing conditions. This alternative has the flexibility to respond to increasing visitation and resource deterioration that could occur over the long term. A visitor center would be developed outside the NCA.

Impacts—The impacts from this alternative are less spontaneity for visitor use, but more visitor services than alternative A. These visitor services will have minimal impacts on visual quality and feeling of remoteness. Alternative B is preferred because it provides for a management approach that is balanced between No Action (little regulation of use) and Alternative C (emphasis on visitation and interpretation including possible construction of a visitor center inside the NCA), while offering the best means of responding to changing conditions and public needs over the life of the RMP.

Alternative C—Emphasis on Visitation and Interpretation: Emphasis focuses on more active visitor support in this alternative. Resource management activities allow for necessary intervention at varying levels in geographic areas to enable both the natural and historic context to be experienced while ensuring that resource protection is not compromised. A visitor center would be developed in or near the NCA.

Impacts—This alternative has a slightly higher impact on visual quality and the feeling of remoteness than alternative B. This alternative could also result in increases in visitation due to the increased visitor services and easier access to the area.

Dated: December 11, 2002.
Terry A. Reed,
Field Manager, Winnemucca Field Office, Bureau of Land Management.

[FR Doc. 03-5304 Filed 3-6-03; 8:45 am]

BILLING CODE 4310-AG-P